DEPARTMENT OF ENERGY

Federal Energy Regulatory Commission

Combined Notice of Filings

Take notice that the Commission has received the following Natural Gas Pipeline Rate and Refund Report filings:

Filings Instituting Proceedings

Docket Numbers: RP18-1179-000.

Applicants: BP Energy Company, Riverbend Oil & Gas VIII, L.L.C.

Description: Joint Petition for Temporary Waivers of Capacity Release Policies and Regulations, et al. of BP Energy Company, et al.

Filed Date: 9/14/18.

Accession Number: 20180914-5082.

Comments Due: 5 p.m. ET 9/21/18.

Docket Numbers: RP18-1180-000.

Applicants: Columbia Gas Transmission, LLC.

Description: § 4(d) Rate Filing: TCO Essential Power Neg Rate Agmt to be effective 9/14/2018.

Filed Date: 9/14/18.

Accession Number: 20180914-5083.

Comments Due: 5 p.m. ET 9/26/18.

Docket Numbers: RP18-1181-000.

Applicants: Iroquois Gas Transmission System, L.P.

Description: § 4(d) Rate Filing: 091418 Negotiated Rates—Mercuria Energy America, Inc. H-7540-89 to be effective 11/1/2018.

Filed Date: 9/14/18.

Accession Number: 20180914-5108.

Comments Due: 5 p.m. ET 9/26/18.

Docket Numbers: RP18-1182-000.

Applicants: Tallgrass Interstate Gas Transmission, LLC.

Description: § 4(d) Rate Filing: Neg Rate 2018-09-14 Valero to be effective 9/14/2018.

Filed Date: 9/14/18.

Accession Number: 20180914-5182.

Comments Due: 5 p.m. ET 9/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2018.
Nathaniel J. Davis, Sr.,
Deputy Secretary.

[FR Doc. 2018-20735 Filed 9-21-18; 8:45 am]

BILLING CODE 6717-01-P